NATIONAL AERONAUTICS AND SPACE ADMINISTRATION

[Notice 00-071]

Government-Owned Inventions, Available for Licensing

AGENCY: National Aeronautics and Space Administration.

ACTION: Notice of Availability of Inventions for Licensing.

SUMMARY: The inventions listed below are assigned to the National Aeronautics and Space Administration, have been filed in the United States Patent and Trademark Office, and are available for licensing.

DATES: June 19, 2000.

FOR FURTHER INFORMATION CONTACT: Guy M. Miller, Patent Counsel, Goddard Space Flight Center, Mail Code 750.2, Greenbelt, MD 20771; 301-286-7351.

NASA Case No. GSC 13,707-1: Dual Antenna Compensating Combiner (DACC);

NASA Case No. GSC 13,874-1: Adhesive Bubble Removal Technique and Fixture for Fiber Optic Applications;

NASA Case No. GSC 14,098-1: Microaltimeter;

NASA Case No. GSC 13,966-1: GPS “Compound Eye” Attitude Sensor;

NASA Case No. GSC 14,106-1: Automated Liquid Helium Transport System;

NASA Case No. GSC 14,147-1: Process for Producing High Quality Optically Polished Surfaces On Bare Aluminum Substrates;

NASA Case No. GSC 14,172-1: Hub Mounted Bending Beam for Shape Adjustment of Springback Reflectors;

NASA Case No. GSC 14,205-1: Continuously Variable Planetary Transmission(CVPT);

NASA Case No. GSC 14,207-1: Gear Bearings;

NASA Case No. GSC 14,213-1: Estimated Spectrum Adaptive Postfilter (ESAP) and the Iterative Prepost Filtering (IPF) Algorithms;

NASA Case No. GSC 14,236-1: MEMS Devices for Spacecraft Thermal Control Applications;

NASA Case No. GSC 14,243-1: Autonomous Unified On-Board Orbit and Attitude Control System for Satellites;

NASA Case No. GSC 14,339-1: 3-D Interactive Display;

NASA Case No. GSC 14,370-1: Circular Polarization Keying.

Dated: June 12, 2000.
Edward A. Frankle,
General Counsel.

[FR Doc. 00-15328 Filed 6-16-00; 8:45 am]

BILLING CODE 7510-01-P